DEPARTMENT OF ENERGY

Federal Energy Regulatory Commission

Combined Notice of Filings #1

Take notice that the Commission received the following electric corporate filings:

Docket Numbers: EC22-80-000.

Applicants: Capistrano Portfolio Holdco LLC, Broken Bow Wind, LLC, Crofton Bluffs Wind, LLC, Mountain Wind Power, LLC, Mountain Wind Power II LLC.

Description: Joint Application for Authorization Under Section 203 of the Federal Power Act of Capistrano Portfolio Holdco LLC, et al.

Filed Date: 6/23/22.

Accession Number: 20220623-5159.

Comment Date: 5 p.m. ET 7/14/22.

Take notice that the Commission received the following electric rate filings:

Docket Numbers: ER19-1553-000.

Applicants: Southern California Edison Company.

Description: Southern California Edison Company's (SCE)Errata Notice of Intent to Revise SCE's Formula Transmission Rate Annual Update TO2021 and TO2022.

Filed Date: 6/22/22.

Accession Number: 20220622-5140.

Comment Date: 5 p.m. ET 7/13/22.

Docket Numbers: ER22-69-001.

Applicants: Indeck Niles, LLC.

Description: Compliance filing: Amended Notice of Change in Status & Change in Seller Category (ER22-69-) to be effective N/A.

Filed Date: 6/23/22.

Accession Number: 20220623-5030.

Comment Date: 5 p.m. ET 7/14/22.

Docket Numbers: ER22-1743-001.

Applicants: Indeck Corinth Limited Partnership.

Description: Tariff Amendment: Amended Notice of Change in Status & Seller Category Designation (ER22-1743) to be effective 5/2/2022.

Filed Date:6/23/22.

Accession Number: 20220623-5045.

Comment Date: 5 p.m. ET 7/14/22.

Docket Numbers: ER22-1744-001.

Applicants: Indeck Energy Services of Silver Springs, Inc.

Description: Tariff Amendment: Amended Notice of Change in Status & Seller Category Designation (ER22-1744) to be effective 5/2/2022.

Filed Date: 6/23/22.

Accession Number: 20220623-5031.

Comment Date: 5 p.m. ET 7/14/22.

Docket Numbers: ER22-1745-001.

Applicants: Indeck-Olean Limited Partnership.

Description: Tariff Amendment: Amended Notice of Change in Status & Seller Category Designation (ER22-1745) to be effective 5/2/2022.

Filed Date: 6/23/22.

Accession Number: 20220623-5039.

Comment Date: 5 p.m. ET 7/14/22.

Docket Numbers: ER22-1748-001.

Applicants: Indeck-Oswego Limited Partnership.

Description: Tariff Amendment: Amended Notice of Change in Status & Seller Category Designation (ER22-1748) to be effective 5/2/2022.

Filed Date: 6/23/22.

Accession Number: 20220623-5044.

Comment Date: 5 p.m. ET 7/14/22.

Docket Numbers: ER22-1751-001.

Applicants: Indeck-Yerkes Limited Partnership.

Description: Tariff Amendment: Amended Notice of Change in Status & Seller Category Designation (ER22-1751) to be effective 5/2/2022.

Filed Date: 6/23/22.

Accession Number: 20220623-5042.

Comment Date: 5 p.m. ET 7/14/22.

Docket Numbers: ER22-2176-000.

Applicants: Rolling Hills Generating, L.L.C.

Description: Compliance filing: eTariff Baseline Filing to be effective 6/24/2022.

Filed Date: 6/23/22.

Accession Number: 20220623-5094.

Comment Date: 5 p.m. ET 7/14/22.

Docket Numbers: ER22-2176-001.

Applicants: Rolling Hills Generating, L.L.C.

Description: Compliance filing: Informational Filing Pursuant to Schedule 2 of the PJM OATT & Request for Waiver to be effective N/A.

Filed Date: 6/23/22.

Accession Number: 20220623-5148.

Comment Date: 5 p.m. ET 7/14/22.

Docket Numbers: ER22-2177-000.

Applicants: American Electric Power Service Corporation, Ohio Power Company, PJM Interconnection, L.L.C.

Description: § 205(d) Rate Filing: American Electric Power Service Corporation submits tariff filing per 35.13(a)(2)(iii: AEP submits revised SA No. 1422 OPCo-Deshler ILDSA to be effective 5/1/2022.

Filed Date: 6/23/22.

Accession Number: 20220623-5120.

Comment Date: 5 p.m. ET 7/14/22.

Docket Numbers: ER22-2178-000.

Applicants: ORNI 50 LLC.

Description: Baseline eTariff Filing: Petition for Approval of Initial Market-Based Rate Tariff to be effective 6/24/2022.

Filed Date: 6/23/22.

Accession Number: 20220623-5122.

Comment Date: 5 p.m. ET 7/14/22.

Docket Numbers: ER22-2179-000.

Applicants: PacifiCorp.

Description: § 205(d) Rate Filing: UMPA Const Agmt Nephi to be effective 8/23/2022.

Filed Date: 6/23/22.

Accession Number: 20220623-5145.

Comment Date: 5 p.m. ET 7/14/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 23, 2022.
Debbie-Anne A. Reese,
Deputy Secretary.

[FR Doc. 2022-13884 Filed 6-28-22; 8:45 am]

BILLING CODE 6717-01-P